ENVIRONMENTAL PROTECTION AGENCY

40 CFR Part 271

[FRL-6926-8]

Florida: Final Authorization of State Hazardous Waste Management Program Revision

AGENCY: Environmental Protection Agency (EPA).

ACTION: Immediate final rule-response to comments.

SUMMARY: On September 18, 2000, EPA published an action to grant Florida final authorization for several changes to its hazardous waste program under the Resource Conservation and Recovery Act (RCRA) (65 FR 56256). These revisions consisted of the Corrective Action provisions contained in rules promulgated on July 15, 1985 (HSWA Codification Rule; HSWA Corrective Action), December 1, 1987 (HSWA Codification Rule: Corrective Action Beyond the Facility Boundary), February 16, 1993 (Corrective Action Management Units and Temporary Units), and December 6, 1994, as amended May 19, 1995, September 9, 1995, November 13, 1995, February 9, 1996, June 5, 1996, and November 25, 1996 (Consolidated Organic Air Emission Standards for Tanks, Surface Impoundments, and Containers). As was indicated in this document, EPA accepted written comments on this action until October 18, 2000. EPA received five written comments. Two of the commenters supported EPA's decision to grant Florida final authorization but offered recommendations regarding Florida's proposed manner of administration and implementation of the HSWA corrective action program. One commenter expressed the concern that the additional responsibilities the State would assume could negatively impact Florida's implementation of the RCRA program. EPA explained to this commenter that a Capability Assessment was performed on the State's program which concluded that Florida is capable of administering the Corrective Action and subpart CC programs. Another commenter was concerned that authorizing Florida for the subpart CC rules would relinquish EPA's oversight authority. EPA's response to this commenter explained that federal regulations are in place that give the Agency oversight responsibilities to evaluate the State's performance in administering the RCRA program. Finally, EPA received a written letter from a commenter that supported the intended delegation in principle, but expressed concern that the Final Authorization application, including the proposed Memorandum of Agreement, did not incorporate the RCRA Reforms which were announced on July 8, 1999, and which provide for “faster, focused, and more flexible cleanups.” To this commenter, EPA responded that “The RCRA Reforms do not constitute rulemaking for which Florida is obliged to seek authorization. The purpose of the authorization process is to show equivalence to federal statutes and regulations to demonstrate the State's ability to carry out its program responsibilities once it is authorized.” Further, the proposed language in the Memorandum of Agreement states that “The State will conduct its hazardous waste program in a manner equivalent to the EPA program policies and guidance.” EPA and the State interpret this to include all guidance published by EPA's Office of Solid Waste including the July 8, 1999, directive and any other appropriate guidance. EPA has communicated with Florida reemphasizing the importance of Florida's continued support and implementation of the corrective action program in a manner consistent with the RCRA Reforms. Florida acknowledges the importance of the Reforms and has reaffirmed its commitment to implementation of the Reforms. EPA has revised the attachment to the proposed Memorandum of Agreement to include more specific program guidance references which reflect the Reforms. EPA has determined that the addition of specific references to the proposed Memorandum of Agreement does not constitute a substantive change to the authorization document. In view of the fact that such guidance and policy was cited in a comprehensive way in the MOA, EPA made a decision to not withdraw the Immediate Final rule that grants Florida authorization as published in the September 18, 2000, Federal Register.

DATES: This final authorization became effective on November 17, 2000.

FOR FURTHER INFORMATION CONTACT: Narindar M. Kumar, Chief, RCRA Programs Branch, Waste Management Division, U.S. Environmental Protection Agency, Atlanta Federal Center, 61 Forsyth Street, SW, Atlanta, GA 30303-8960; (404) 562-8440.

SUPPLEMENTARY INFORMATION: EPA, through this final action, retains its decision to authorize revisions to Florida's Hazardous Waste Management Program as published on September 18, 2000 (65 FR 56256).

Authority: This action is issued under the authority of sections 2002(a), 3006 and 7004(b) of the Solid Waste Disposal Act as amended 42 U.S.C. 6912(a), 6926,6974(b).

Dated: December 1, 2000.
A. Stanley Meiburg,
Acting Regional Administrator, Region 4.

[FR Doc. 00-33427 Filed 12-29-00; 8:45 am]

BILLING CODE 6560-50-P